DEPARTMENT OF TRANSPORTATION

Federal Aviation Administration

14 CFR Part 39

[Docket No. FAA-2006-25983; Directorate Identifier 2006-SW-11-AD; Amendment 39-15463; AD 2008-08-11]

RIN 2120-AA64

Airworthiness Directives; MD Helicopters, Inc. Model MD900 Series Helicopters

AGENCY: Federal Aviation Administration, DOT.

ACTION: Final rule.

SUMMARY: This amendment adopts a new airworthiness directive (AD) for MD Helicopters, Inc. (MDHI) Model MD900 series helicopters that requires modifying the pilot and co-pilot dual-control directional pedal assemblies, or the pilot single-control directional pedal assembly (directional control pedal assembly). This amendment is prompted by an accident which has been attributed to loss of directional control due to failure of the welds in the directional control pedal assembly. The actions specified by this AD are intended to prevent fatigue cracking in the welds that connect the directional control pedal to the pedal shaft, resulting in loss of directional control and subsequent loss of control of the helicopter.

DATES: Effective June 2, 2008.

The incorporation by reference of certain publications listed in the regulations is approved by the Director of the Federal Register as of June 2, 2008.

ADDRESSES: You may get the service information identified in this AD from MD Helicopters, Inc., Attn: Customer Support Division, 4555 E. McDowell Rd., Mail Stop M615, Mesa, Arizona 85215-9734, telephone 1-800-388-3378, fax 480-346-6813, or on the Web at http://www.mdhelicopters.com.

Examining the Docket: You may examine the docket that contains this AD, any comments, and other information on the Internet at http://www.regulations.gov or at the Docket Operations office, West Building Ground Floor, Room W12-140, 1200 New Jersey Avenue, SE., Washington, DC.

FOR FURTHER INFORMATION CONTACT: Roger Durbin, Aviation Safety Engineer, FAA, Los Angeles Aircraft Certification Office, Airframe Branch, 3960 Paramount Blvd., Lakewood, California 90712, telephone (562) 627-5233, fax (562) 627-5210.

SUPPLEMENTARY INFORMATION: A proposal to amend 14 CFR part 39 to include an AD for the specified model helicopters was published in the Federal Register on October 17, 2006 (71 FR 60927). That action proposed to require, for MDHI Model MD900 series helicopters, serial numbers (S/N) 900-00008 through 900-00111, 900-00113, and 900-00114, modifying the directional control pedal assembly, part number (P/N) 900C1012007-107, -109, -111, -113, or 900C6012007-111 (pilot dual control); or P/N 900C1012207-105, -107, -109, -111, or -113 (co-pilot dual control); or P/N 900C1010007-107, -109, -111, -113, or 900C6010007-111 (pilot single control), by removing the existing pedals, removing the welded pedal support plate from the pedal shafts, and installing a directional control pedal modification kit, P/N SBK-010. Ink stamping the P/N, 90005340111-101, on the pedal shaft of each modified directional control pedal assembly using permanent ink was also proposed.

MDHI has issued Service Bulletin SB900-100, dated April 5, 2006, which describes procedures for modifying the directional control pedal assembly.

Interested persons have been afforded an opportunity to participate in the making of this amendment. Due consideration has been given to the comments received.

The one commenter, the Modification and Replacement Parts Association, “does not object to the TC holder provided modification kits provided at no cost to operators” and states that “Such action removes any incentive for the development of alternative parts under 14 CFR 21.303.” They also note that the cost impact stated in the AD is $61,650 per helicopter, but should correctly be stated as $61,650 for the entire U.S. fleet of MDHI MD900 helicopters. The FAA concurs and has corrected that error in this AD.

After careful review of the available data, including the comments noted above, the FAA has determined that air safety and the public interest require the adoption of the rule with the change described previously. The FAA has determined that this change will neither increase the economic burden on any operator nor increase the scope of the AD.

The FAA estimates that this AD will affect 30 helicopters of U.S. registry, and the required actions will take approximately 8 work hours for helicopters with single pilot controls installed, or 16 work hours for helicopters with dual pilot and co-pilot controls installed, at an average labor rate of $80 per work hour. Required parts will cost approximately $775 for helicopters with dual pilot and co-pilot controls installed. Based on these figures, we estimate the total cost impact of the AD on U.S. operators to be $61,650 for the entire fleet, or $2,055 per helicopter, assuming that dual pilot and co-pilot controls are installed on the entire fleet and there is no warranty coverage.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the AD docket to examine the economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2008-08-11 MD Helicopters, Inc.: Amendment 39-15463. Docket No. FAA-2006-25983; Directorate Identifier 2006-SW-11-AD.

Applicability

Model MD900 series helicopters, serial numbers (S/N) 900-00008 through 900-00111, 900-00113, and 900-00114, certificated in any category.

Compliance

Required within 90 days after the effective date of this AD, unless accomplished previously.

To prevent fatigue cracking in the welds which connect the pilot and co-pilot dual-control, or pilot single-control directional control pedal (directional control pedal) to the pedal shaft, resulting in loss of directional control and subsequent loss of control of the helicopter, accomplish the following:

(a) Modify each directional control pedal assembly, part number (P/N) 900C1012007-107, -109, -111, -113, or 900C6012007-111 (pilot dual control); or P/N 900C1012207-105, -107, -109, -111, or -113 (co-pilot dual control); or P/N 900C1010007-107, -109, -111, -113, or 900C6010007-111 (pilot single control), by removing the existing pedals, removing the welded pedal support plate from the pedal shafts, and installing a directional control pedal modification kit, P/N SBK-010, in accordance with part 2, Accomplishment Instructions, in MD Helicopters Service Bulletin SB900-100, dated April 5, 2006. One modification kit is required to be installed on helicopters with single controls and two modification kits are required to be installed on helicopters with dual controls.

(b) Using a permanent ink, ink stamp the P/N, 90005340111-101, on the pedal shaft of each modified directional control pedal assembly.

(c) To request a different method of compliance or a different compliance time for this AD, follow the procedures in 14 CFR 39.19. Contact the Manager, Los Angeles Aircraft Certification Office, FAA, ATTN: Roger Durbin, Airframe Branch, 3960 Paramount Blvd., Lakewood, California 90712, telephone (562) 627-5233, fax (562) 627-5210, for information about previously approved alternative methods of compliance.

(d) The modification shall be done in accordance with the specified portions of MD Helicopters Service Bulletin SB900-100, dated April 5, 2006. The Director of the Federal Register approved this incorporation by reference in accordance with 5 U.S.C. 552(a) and 1 CFR part 51. Copies may be obtained from MD Helicopters, Inc., Attn: Customer Support Division, 4555 E. McDowell Rd., Mail Stop M615, Mesa, Arizona 85215-9734, telephone 1-800-388-3378, fax 480-346-6813. Copies may be inspected at the FAA, Office of the Regional Counsel, Southwest Region, 2601 Meacham Blvd., Room 663, Fort Worth, Texas, or at the National Archives and Records Administration (NARA). For information on the availability of this material at NARA, call 202-741-6030, or go to: http://www.archives.gov/federal_register/code_of_federal_regulations/ibr_locations.html.

(e) This amendment becomes effective on June 2, 2008.

Issued in Fort Worth, Texas, on April 3, 2008.
Mark R. Schilling,
Acting Manager, Rotorcraft Directorate, Aircraft Certification Service.

[FR Doc. E8-8638 Filed 4-25-08; 8:45 am]

BILLING CODE 4910-13-P